DEPARTMENT OF ENERGY

Secretary of Energy Advisory Board; Meeting Cancellation

AGENCY: Department of Energy.

ACTION: Notice of meeting cancellation until further notice.

SUMMARY: This notice announces the cancellation until further notice of the open meeting of the Secretary of Energy Advisory Board's Laboratory Operations Board (LOB).

NAME: Secretary of Energy Advisory Board—Laboratory Operations Board.

DATES: The meeting scheduled for Wednesday, June 21, 2000, 8:30 a.m.-3:15 p.m., Eastern Daylight Time has been cancelled until further notice.

ADDRESSES: Spallation Neutron Source Project Building, Room 101A, 701 Scarboro Road, Oak Ridge National Laboratory, Oak Ridge, Tennessee 37831.

FOR FURTHER INFORMATION CONTACT: Betsy Mullins, Executive Director, or Laurie Keaton, LOB Staff Director, Office of Secretary of Energy Advisory Board (AB-1), U.S. Department of Energy, 1000 Independence Avenue, SW., Washington, DC 20585, (202) 586-7162 or (202) 586-6279 (fax).

Issued at Washington, D.C., on June 14, 2000.
Carol A. Kennedy,
Acting Advisory Committee Management Officer.

[FR Doc. 00-15474 Filed 6-19-00; 8:45 am]

BILLING CODE 6450-01-P